DEPARTMENT OF DEFENSE

Department of the Navy

Meeting of the Board of Advisors (BOA) to the President of the Naval Postgraduate School (NPS) Subcommittee

AGENCY: Department of the Navy, DoD.

ACTION: Notice.

SUMMARY: Pursuant to the provisions of The Federal Advisory Committee Act, notice is hereby given that the following meeting of the Board of Advisors to the President of the Naval Postgraduate School Subcommittee will be held. This meeting will be open to the public.

DATES: The meeting will be held on Wednesday, April 26, 2017, from 8:00 a.m. to 4:30 p.m. and on Thursday, April 27, 2017, from 7:30 a.m. to 11:00 p.m. Pacific Time Zone.

ADDRESSES: The meeting will be held at the Naval Postgraduate School, Executive Briefing Center, Herrmann Hall, 1 University Circle, Monterey, CA.

FOR FURTHER INFORMATION CONTACT: Ms. Jaye Panza, Designated Federal Official, 1 University Circle, Monterey, CA 93943-5001, telephone number 831-656-2514.

SUPPLEMENTARY INFORMATION: The purpose of the Board is to advise and assist the President, NPS, in educational and support areas, providing independent advice and recommendations on items such as, but not limited to, organizational management, curricula, methods of instruction, facilities, and other matters of interest.

The agenda for Wednesday is as follows:

8:00 a.m.-8:30 a.m.: Welcome/Administrative Business

8:30 a.m.-8:45 a.m.: Annual Ethics Training

8:45 a.m.-9:45 a.m.: President's Update

9:45 a.m.-10:15 a.m.: Strategic Plan Discussion

10:15 a.m.-10:30 a.m.: AFIT Partnership Update

10:45 a.m.-11:45 a.m.: Round Table Discussion with Deans

12:00 p.m.-1:00 p.m.: Meet with Students

1:15 p.m.-3:45 p.m.: Campus Tour Classroom/Labs

3:45 p.m.-4:15 p.m.: NPS Foundation Update

The agenda for Thursday is as follows:

7:30 a.m.-8:30 a.m.: Meet with Faculty

8:45 a.m.-9:15 a.m.: Facilities Update

9:15 a.m.-11:00 a.m.: Board Discussion

11:00 a.m.: Meeting Adjourned

Individuals without a DoD Government Common Access Card require an escort at the meeting location. For access, information, or to send written statements for consideration at the committee meeting contact Ms. Jaye Panza, Designated Federal Officer, Naval Postgraduate School, 1 University Circle, Code 00H, Monterey, CA 93943-5001 or by fax (831) 656-2337 by April 21, 2017.

Dated: March 22, 2017.
A.M. Nichols,
Lieutenant Commander, Judge Advocate General's Corps, U.S. Navy, Federal Register Liaison Officer.

[FR Doc. 2017-06458 Filed 3-31-17; 8:45 am]

BILLING CODE 3810-FF-P